ENVIRONMENTAL PROTECTION AGENCY

[OPP- 2004-0158; FRL-7360-7]

Final Product Performance Test Guideline; Methods for Efficacy Testing of Termite Baits; Notice of Availability

AGENCY: Environmental Protection Agency (EPA).

ACTION: Notice.

SUMMARY: EPA has established a unified library for test guidelines issued by the Office of Prevention, Pesticides and Toxic Substances (OPPTS) for use in testing chemical substances to develop data for submission to EPA under the Toxic Substances Control Act (TSCA), the Federal Food, Drug, and Cosmetic Act (FFDCA), or the Federal Insecticide, Fungicide, and Rodenticide Act (FIFRA). These test guidelines represent an Agency effort that began in 1991 to harmonize the test guidelines within OPPTS, as well as to harmonize the OPPTS test guidelines with those of the Organization for Economic Cooperation and Development (OECD). The process for developing and amending these test guidelines includes public participation and the extensive involvement of the scientific community, including peer review by the Scientific Advisory Panel (SAP) and the Scientific Advisory Board (SAB) and other expert scientific organizations. With this notice, EPA is announcing the availability of the final test guideline for Series 810-Product Performance Test Guidelines, OPPTS 810.3800 Methods for Efficacy Testing of Termite Baits.

FOR FURTHER INFORMATION CONTACT: FIFRA information contact: Communications Services Branch (7506C), Field and External Affairs Division, Office of Pesticide Programs, Environmental Protection Agency, 1200 Pennsylvania Ave., NW., Washington, DC 20460-0001; telephone number: (703) 305-5017; fax number: (703) 305-5558.

For technical information contact: Kevin Sweeney, Registration Division (7505C), Office of Pesticide Programs, Environmental Protection Agency, 1200 Pennsylvania Ave., NW., Washington, DC 20460-0001; telephone number: (703) 305-5063; e-mail address: sweeney.kevin@epa.gov.

SUPPLEMENTARY INFORMATION:

I. Does This Action Apply to Me?

This action is directed to the public in general. Although this action may be of particular interest to those persons who are or may be required to conduct testing of chemical substances under TSCA, FFDCA, or FIFRA, the Agency has not attempted to describe all the specific entities that may be affected by this action. If you have any questions regarding the applicability of this action to a particular entity, consult the person listed under FOR FURTHER INFORMATION CONTACT.

II. How Can I Get Copies of This Document and Other Related Information?

A. Docket

EPA has established an official public docket for this action under docket identification (ID) number OPP-2004-0158. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

B. Electronic Access

You may access this Federal Register document electronically through the EPA Internet under the “Federal Register” listings at http://www.epa.gov/fedrgstr/.You may also obtain copies of test guidelines from the EPA Internet Home Page at http://www.epa.gov/opptsfrs/home/guidelin.htm.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit II.A. Once in the system, select “search,” then key in the appropriate docket ID number.

III. What Action Is EPA Taking?

EPA is announcing the availability of the final test guideline for Series 810-Product Performance Test Guidelines, OPPTS 810.3800 Methods for Efficacy Testing of Termite Baits. This guideline addresses test methods and evaluation criteria for pesticide products used as termite baits to kill termites. Key elements in the final test guideline are as follows:

1. This final test guideline describes specific methods for conducting product performance testing of termite baits which reflect the Agency's considered recommendations for the minimum steps necessary to develop reliable data on termite bait product performance.

2. Three tests are described to generate the data set that EPA considers reliable for evaluation of termite bait efficacy. Testing termite baits in the laboratory, experimental field plots, and at least 100 termite infested structures in the United States is recommended. Termite bait control success is evaluated based on review of data from all three testing methods.

IV. How Were These Test Guidelines Developed?

The draft test guideline was reviewed by EPA's FIFRA SAP in a public meeting on July 30-31, 2002, which was announced in the Federal Register on July 5, 2002 (67 FR 44836) (FRL-7186-6) and has been revised in response to the SAP and the public comments.

V. Are There Any Applicable Voluntary Consensus Standards That EPA Should Consider?

This notice of availability does not involve a proposed regulatory action that would require the Agency to consider voluntary consensus standards pursuant to section 12(d) of the National Technology Transfer and Advancement Act of 1995 (NTTAA), Public Law 104-113, section 12(d) (15 U.S.C. 272 note). Section 12(d) of NTTAA directs EPA to use voluntary consensus standards in its regulatory activities unless to do so would be inconsistent with applicable law or otherwise impractical. Voluntary consensus standards are technical standards (e.g., materials specifications, test methods, sampling procedures, and business practices) that are developed or adopted by voluntary consensus standards bodies. The NTTAA requires EPA to provide an explanation to Congress, through Office of Management and Budget (OMB), when the Agency decides not to use available and applicable voluntary consensus standards when the NTTAA directs the Agency to do so.

In the July 5, 2002, Federal Register document announcing EPA's FIFRA SAP meeting held on July 30-31, 2002, EPA specifically sought comment on the availability of any applicable voluntary consensus standards that should be considered during the development of the final test guideline or any future regulatory action that EPA may take under TSCA. The Agency did not receive any comments on the availability of any applicable voluntary consensus standards.

List of Subjects

Environmental protection, Chemical testing, Test guideline, Termites, Termite Baits.

Dated: August 12, 2004
Susan B. Hazen,
Acting Assistant Administrator, Office of Prevention, Pesticides and Toxic Substances.

[FR Doc. 04-19442 Filed 8-24-04; 8:45 am]

BILLING CODE 6560-50-S